DEPARTMENT OF TRANSPORTATION

Federal Aviation Administration

14 CFR Part 39

[Docket No. FAA-2013-0416; Directorate Identifier 2012-NM-144-AD; Amendment 39-17707; AD 2013-25-11]

RIN 2120-AA64

Airworthiness Directives; Airbus Airplanes

AGENCY: Federal Aviation Administration (FAA), Department of Transportation (DOT).

ACTION: Final rule.

SUMMARY: We are superseding Airworthiness Directive (AD) 2010-24-07 for all Airbus Model A318 series airplanes, Model A319 series airplanes, Model A320 series airplanes, and Model A321 series airplanes. AD 2010-24-07 required repetitive inspections of the 80VU rack lower lateral fittings for damage, repetitive inspections of the 80VU rack lower central support for cracking, and corrective action if necessary. AD 2010-24-07 also specified optional terminating action for the repetitive inspections. This new AD reduces the inspection compliance time, adds an inspection of the upper fittings and shelves of the 80VU rack, and adds airplanes to the applicability. This AD was prompted by reports of worn lower lateral fittings of the 80VU rack. We are issuing this AD to detect and correct damage or cracking of the 80VU fittings and supports, which could lead to possible disconnection of the cable harnesses to one or more computers, and if occurring during a critical phase of flight, could result in reduced control of the airplane.

DATES: This AD becomes effective January 31, 2014.

The Director of the Federal Register approved the incorporation by reference of a certain publication listed in this AD as of January 31, 2014.

The Director of the Federal Register approved the incorporation by reference of certain other publications listed in this AD as of January 11, 2011 (75 FR 75878, December 7, 2010).

ADDRESSES: You may examine the AD docket on the Internet at http://www.regulations.gov/#!docketDetail;D=FAA-2013-0416; or in person at the U.S. Department of Transportation, Docket Operations, M-30, West Building Ground Floor, Room W12-140, 1200 New Jersey Avenue SE., Washington, DC.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Discussion

We issued a notice of proposed rulemaking (NPRM) to amend 14 CFR part 39 by adding an AD that would apply to the specified products. The NPRM was published in the Federal Register on May 14, 2013 (78 FR 28152), and proposed to supersede AD 2010-24-07, Amendment 39-16526 (75 FR 75878, December 7, 2010). The NPRM proposed to correct an unsafe condition for the specified products. The European Aviation Safety Agency (EASA), which is the Technical Agent for the Member States of the European Community, has issued EASA Airworthiness Directive 2012-0134, dated July 18, 2012 (referred to after this as the Mandatory Continuing Airworthiness Information, or “the MCAI”), to correct an unsafe condition for the specified products. The MCAI states:

Damage to the lower lateral fittings of the 80VU rack, typically elongated holes, migrated bushes, and/or missing bolts have been reported on in-service aeroplanes. The 80VU rack contains computers for flight controls, communication and radio-navigation. In addition, damage to the lower central support fitting (including cracking) has been reported.

Failure of the 80VU fittings, in combination with a high load factor or strong vibration, could lead to failure of the rack structure and/or computers or rupture/disconnection of the cable harnesses to one or more computers located in the 80VU rack. Even though the computer functions are duplicated across other racks, multiple system failures or (partial) disconnection of systems, if occurring during a critical phase of flight, could result in reduced control of the aeroplane.

To address this potential unsafe condition, EASA issued AD 2007-0276 to require repetitive inspections of the lower lateral 80VU fittings and the lower central 80VU support and, depending on findings, the accomplishment of corrective actions. [EASA] AD 2007-0276 was revised to introduce a reinforced lower central support as an optional terminating action for the repetitive inspections.

Since issuance of EASA AD 2007-0276R1 [http://ad.easa.europa.eu/blob/easa_ad_2007_0276_R1_superseded.pdf/AD_2007-0276R1_1] [which corresponds to FAA AD 2010-24-07, Amendment 39-16526 (75 FR 75878, December 7, 2010)], and prompted by in-service experience, the previous inspection programme has been reassessed. New conditions of inspection for a new finding on the lower central fitting attachment (crack in the lower of the lateral flanges), and a new visual inspection of the upper fittings and shelves of the 80VU are introduced by this inspection programme. In addition, the replacement of a cracked lateral fitting or central support with a lateral fitting or central support having the same part number is no longer preferable as corrective action. Instead, the installation of the reinforced lower central support is now defined as optional terminating action for the repetitive inspections required by this [EASA] AD.

For the reasons described above, this [EASA] AD supersedes EASA AD 2007-0276R1 and requires implementation of an amended inspection programme with a reduced inspection threshold.

You may examine the MCAI in the AD docket on the Internet at http://www.regulations.gov/#!documentDetail;D=FAA-2013-0416-0002.

Comments

We gave the public the opportunity to participate in developing this AD. We have considered the comments received.

Request to Change Compliance Time

United Airlines (UAL) requested that we change the compliance time for the corrective actions specified in paragraphs (m), (o), and (p) of the NPRM (78 FR 28152, May 14, 2013) from “before further flight” to the following.

• Within one deferral flight cycle, or the applicable time given in Paragraph E.(2), “Accomplish Timescale,” of Airbus Mandatory Service Bulletin A320-25A1555, Revision 03, dated February 28, 2012, whichever is later.

• Within 50 flight cycles or at the applicable time given in Paragraph E.(2), “Accomplish Timescale,” of Airbus Mandatory Service Bulletin A320-25A1555, Revision 03, dated February 28, 2012, whichever is later.

UAL stated that the first option would give operators a chance to fly a ferry flight to a more equipped resourced base maintenance station, and that the second option would give operators an option to create a short-term deferred item to plan for its accomplishment by creating a formal maintenance task with planned allocated resources.

UAL stated that due to the inspection threshold and repeat interval of 500 flight cycles, it is concerned that the inspection will take place at mainly airplane line maintenance stations, with significant exposure to possible damage conditions that require correction before further flight. UAL commented that typical airplane line stations might not have the resources, materials, and equipment to perform this type of modification, repair, and access. UAL also stated that certain corrective actions require approximately 57 work-hours, which would lead to lengthy out-of-service time and costs to the airline.

We do not agree with UAL's request to extend the compliance time. The FAA AD provides a provision for operators to apply for a special flight permit in accordance with 14 CFR 21.197, which allows operators to fly airplanes to a base where repairs, alterations, or maintenance can be performed. These airplanes may not fully meet applicable airworthiness requirements, but are capable of safe flight for reasons stated in 14 CFR 21.197. In developing an appropriate compliance time for this final rule, we considered the urgency associated with the subject unsafe condition, the availability of required parts, and the practical aspect of accomplishing the required corrective actions. Some safety issues are more time-sensitive than others, so we consider the overall risk to the fleet, including the severity of the failure and the likelihood of the failure's occurrence in establishing the compliance time in this final rule. The commenter has not provided sufficient substantiation for revising the corrective action compliance time for repairing certain damage conditions that will meet an acceptable level of safety to mitigate risk to the fleet.

Under the provisions of paragraph (s) of this AD, we will consider requests for approval of an extension of the compliance time if sufficient data are submitted to substantiate that the new compliance time would provide an acceptable level of safety. We have not changed this final rule in this regard.

Additional Changes to This AD

We have revised paragraph (o)(1) of this final rule to include the option of contacting the EASA (or its delegated agent) for repair instructions.

Paragraph (p) of the NPRM (78 FR 28152, May 14, 2013) incorrectly referred to “paragraphs (m) and (o) of this AD” for certain special detailed inspections. Those special detailed inspections are specified in paragraphs (l) and (n) of this AD. We have revised paragraph (p) of this AD to refer to paragraphs (l) and (n) of this AD.

Conclusion

We reviewed the available data, including the comment received, and determined that air safety and the public interest require adopting this AD with the changes described previously and minor editorial changes. We have determined that these changes:

• Are consistent with the intent that was proposed in the NPRM (78 FR 28152, May 14, 2013) for correcting the unsafe condition; and

• Do not add any additional burden upon the public than was already proposed in the NPRM (78 FR 28152, May 14, 2013).

Costs of Compliance

We estimate that this AD affects about 755 products of U.S. registry.

The actions that are required by AD 2010-24-07, Amendment 39-16526 (75 FR 75878, December 7, 2010), and retained in this AD, take about 82 work-hours per product, at an average labor rate of $85 per work hour. Required parts cost about $2,592 per product. Based on these figures, the estimated cost of the currently required actions is $9,562 per product.

We estimate that it takes about 5 work-hours per product to comply with the new basic requirements of this AD. The average labor rate is $85 per work-hour. Where the service information lists parts costs that are covered under warranty, we have assumed that there will be no charge for these parts. As we do not control warranty coverage for affected parties, some parties may incur costs higher than estimated here. Based on these figures, we estimate the cost of this AD on U.S. operators to be $320,875, or $425 per product.

In addition, we estimate that any necessary follow-on actions would take about 189 work-hours and require parts costing $7,047, for a cost of $23,112 per product. Where the service information lists required parts costs that are covered under warranty, we have assumed that there will be no charge for these parts. As we do not control warranty coverage for affected parties, some parties may incur costs higher than estimated here. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov/#!docketDetail;D=FAA-2013-0416; or in person at the Docket Operations office between 9 a.m. and 5 p.m., Monday through Friday, except Federal holidays. The AD docket contains this AD, the MCAI, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2010-24-07, Amendment 39-16526 (75 FR 75878, December 7, 2010), and adding the following new AD:

2013-25-11 Airbus: Amendment 39-17707. Docket No. FAA-2013-0416; Directorate Identifier 2012-NM-144-AD.

(a) Effective Date

This airworthiness directive (AD) becomes effective January 31, 2014.

(b) Affected ADs

This AD supersedes AD 2010-24-07, Amendment 39-16526 (75 FR 75878, December 7, 2010).

(c) Applicability

This AD applies to Airbus Model A318-111, -112, -121, and -122 airplanes; Model A319-111, -112, -113, -114, -115, -131, -132, and -133 airplanes; Model A320-111, -211, -212, -214, -231, -232, and -233 airplanes; and Model A321-111, -112, -131, -211, -212, -213, -231, and -232 airplanes; certificated in any category; all manufacturer serial numbers.

(d) Subject

Air Transport Association (ATA) of America Code 25, Equipment/Furnishings; and Code 53, Fuselage.

(e) Reason

This AD was prompted by reports of worn lower lateral fittings of the 80VU rack. We are issuing this AD to detect and correct damage or cracking of the 80VU fittings and supports, which could lead to possible disconnection of the cable harnesses to one or more computers, and if occurring during a critical phase of flight, could result in reduced control of the airplane.

(f) Compliance

You are responsible for having the actions required by this AD performed within the compliance times specified, unless the actions have already been done.

(g) Retained Repetitive Inspections of the 80VU Rack Lower Lateral Fittings

This paragraph restates the requirements of paragraph (g) of AD 2010-24-07, Amendment 39-16526 (75 FR 75878, December 7, 2010). Except for Model A318-121 and -122 airplanes, and except for airplanes on which Airbus Modification 34804 has been embodied in production, or on which Airbus Service Bulletins A320-25-1557 and A320-53-1215 have been done in service, prior to the accumulation of 24,000 total flight cycles, or within 500 flight cycles after January 11, 2011 (the effective date of AD 2010-24-07), whichever occurs later: Do a special detailed inspection of the 80VU rack lower lateral fittings for damage (e.g., broken fitting, missing bolts, migrated bushings, material burr, or rack in contact with the fitting) of the 80VU rack lower lateral fittings, in accordance with the Accomplishment Instructions of Airbus Mandatory Service Bulletin A320-25A1555, Revision 02, dated November 5, 2008. Repeat the inspection thereafter at the interval specified in paragraph (g)(1) or (g)(2) of this AD, as applicable. Modifying the 80VU lower lateral fittings, in accordance with the Accomplishment Instructions of Airbus Service Bulletin A320-25-1557, Revision 02, dated November 5, 2008, terminates the inspection requirements of this paragraph. Doing the initial inspection specified in paragraph (l) of this AD terminates the requirements of this paragraph.

(1) For airplanes on which the 80VU rack lower lateral fittings have not been replaced in accordance with the Accomplishment Instructions of Airbus Mandatory Service Bulletin A320-25A1555, Revision 02, dated November 5, 2008: Repeat the inspection thereafter at intervals not to exceed 4,500 flight cycles.

(2) For airplanes on which the 80VU rack lower lateral fittings have been replaced in accordance with the Accomplishment Instructions of Airbus Mandatory Service Bulletin A320-25A1555, Revision 02, dated November 5, 2008: Do the next inspection within 24,000 flight cycles after doing the replacement and repeat the inspection thereafter at intervals not to exceed 4,500 flight cycles.

(h) Retained Corrective Actions With Additional New Corrective Actions

This paragraph restates the requirements of paragraph (h) of AD 2010-24-07, Amendment 39-16526 (75 FR 75878, December 7, 2010), with new corrective actions. If any damage is found during any inspection required by paragraph (g) of this AD, do all applicable corrective actions (inspection and/or repair), in accordance with the Accomplishment Instructions and timeframes in Airbus Mandatory Service Bulletin A320-25A1555, Revision 02, dated November 5, 2008; or in accordance with and at the time specified in paragraph (q) of this AD. As of the effective date of this AD, if any damage is found, do all applicable corrective actions in accordance with and at the times specified in paragraph (q) of this AD.

(i) Retained Repetitive Inspections of the 80VU Rack Lower Central Support

This paragraph restates the requirements of paragraph (i) of AD 2010-24-07, Amendment 39-16526 (75 FR 75878, December 7, 2010). Except for airplanes on which Airbus Modification 34804 has been embodied in production or on which Airbus Service Bulletins A320-25-1557 and A320-53-1215 have been done in service, prior to the accumulation of 24,000 total flight cycles, or within 500 flight cycles after January 11, 2011 (the effective date of AD 2010-24-07), whichever occurs later: Do a special detailed inspection of the 80VU rack lower central support for cracking, in accordance with the Accomplishment Instructions of Airbus Mandatory Service Bulletin A320-25A1555, Revision 02, dated November 5, 2008. Repeat the inspection thereafter at the interval specified in paragraph (i)(1) or (i)(2) of this AD, as applicable. Replacing the pyramid fitting on the 80VU rack with a new, reinforced fitting, in accordance with the Accomplishment Instructions of Airbus Service Bulletin A320-53-1215, dated November 5, 2008, terminates the inspection requirements of this paragraph. Doing the initial inspection specified in paragraph (n) of this AD terminates the requirements of this paragraph.

(1) For airplanes on which the 80VU rack lower central support has not been repaired or replaced using Airbus Mandatory Service Bulletin A320-25A1555 or Airbus Service Bulletin A320-25-1557: Repeat the inspection thereafter at the interval specified in paragraph (i)(1)(i) or (i)(1)(ii) of this AD, as applicable.

(i) For airplanes on which the lower central support has accumulated 30,000 total flight cycles or more: At intervals not to exceed 500 flight cycles.

(ii) For airplanes on which the lower central support has accumulated fewer than 30,000 total flight cycles: At intervals not to exceed 4,500 flight cycles, without exceeding 30,750 total flight cycles on the support for the first repetitive inspection.

(2) For airplanes on which the 80VU rack lower central support has been repaired or replaced using Airbus Mandatory Service Bulletin A320-25A1555 or Airbus Service Bulletin A320-25-1557: Do the next inspection within 24,000 flight cycles after the repair or replacement and thereafter repeat the inspection at the interval specified in paragraph (i)(1)(i) or (i)(1)(ii) of this AD, as applicable.

(j) Retained Corrective Actions for Paragraph (i) of This AD

This paragraph restates the requirements of paragraph (j) of AD 2010-24-07, Amendment 39-16526 (75 FR 75878, December 7, 2010). If any crack is found during any inspection required by paragraph (i) of this AD: Before further flight, replace the pyramid fitting on the 80VU rack with a new, reinforced fitting, in accordance with the Accomplishment Instructions of Airbus Service Bulletin A320-53-1215, dated November 5, 2008. Doing this replacement terminates the inspection requirements of paragraph (i) of this AD.

(k) Retained Optional Terminating Action

This paragraph restates the requirements of paragraph (k) of AD 2010-24-07, Amendment 39-16526 (75 FR 75878, December 7, 2010). Doing the actions specified in paragraphs (k)(1) and (k)(2) of this AD terminates the repetitive inspections required by this AD.

(1) Replacing the pyramid fitting on the 80VU rack with a new, reinforced fitting, in accordance with the Accomplishment Instructions of Airbus Service Bulletin A320-53-1215, dated November 5, 2008.

(2) Modifying the 80VU lower lateral fittings, in accordance with Airbus Service Bulletin A320-25-1557, Revision 02, dated November 5, 2008.

(l) New Requirement of This AD: Repetitive Inspection of Lower Lateral Support Fittings

Except for airplanes on which Airbus Modification 34804 has been embodied in production, or on which the 80VU rack lower lateral support has been modified, as specified in the Accomplishment Instructions of Airbus Mandatory Service Bulletin A320-25-1557, dated June 14, 2007; Revision 01, dated February 7, 2008; or Revision 02, dated November 5, 2008: At the latest of the applicable times specified in paragraphs (l)(1) through (l)(4) of this AD, do a special detailed (borescope) inspection of the 80VU rack lower lateral fittings for damage (e.g., broken fitting, missing bolts, migrated bushings, material burr, or rack in contact with the fitting), in accordance with the Accomplishment Instructions of Airbus Mandatory Service Bulletin A320-25A1555, Revision 03, dated February 28, 2012. Repeat the inspection thereafter at intervals not to exceed 500 flight cycles until the terminating action specified in paragraph (k) of this AD is done. Doing the initial inspection specified in this paragraph terminates the requirements of paragraph (g) of this AD.

(1) Before the accumulation of 20,000 total flight cycles from the airplane first flight, or within 750 flight cycles after the effective date of this AD, whichever occurs later, without exceeding 24,000 total flight cycles.

(2) Within 20,000 flight cycles after the most recent repair or replacement of the 80VU rack lower lateral fittings was done, as specified in the Accomplishment Instructions of Airbus Mandatory Service Bulletin A320-25A1555, dated June 24, 2007; Revision 01, dated February 18, 2008; or Revision 02, dated November 5, 2008.

(3) Within 500 flight cycles after the effective date of this AD, without exceeding 4,500 flight cycles after the most recent inspection of the 80VU rack lower lateral fittings was done, as specified in the Accomplishment Instructions of Airbus Mandatory Service Bulletin A320-25A1555, dated June 14, 2007; Revision 01, dated February 18, 2008; or Revision 02, dated November 5, 2008.

(4) Within 500 flight cycles after the effective date of this AD.

(m) New Requirement of This AD: Corrective Action for Damage of Lower Lateral Support Fittings

If any damage is found during any inspection required by paragraph (l) of this AD: At the applicable time given in paragraph E.(2)., “Accomplishment Timescale,” in Airbus Mandatory Service Bulletin A320-25A1555, Revision 03, dated February 28, 2012, accomplish the applicable corrective actions, in accordance with the Accomplishment Instructions of Airbus Mandatory Service Bulletin A320-25A1555, Revision 03, dated February 28, 2012; except where this service information specifies to contact Airbus for further instructions, before further flight, contact either the Manager, International Branch, ANM-116, Transport Airplane Directorate, FAA; or the European Aviation Safety Agency (EASA) (or its delegated agent) for instructions; and do those instructions.

(n) New Requirement of This AD: Repetitive Inspection on Lower Central Support

Except for airplanes on which Airbus Modification 34804 has been embodied in production, or on which the 80VU rack lower central support has been modified, as specified in the Accomplishment Instructions of Airbus Service Bulletin A320-53-1215, dated November 5, 2008: At the latest of the applicable times specified in paragraphs (n)(1) through (n)(6) of this AD, do a special detailed (borescope) inspection of the 80VU rack lower central support for cracking, in accordance with the Accomplishment Instructions of Airbus Mandatory Service Bulletin A320-25A1555, Revision 03, dated February 28, 2012. Repeat the inspection thereafter at intervals not to exceed 500 flight cycles until the terminating action specified in paragraph (k) of this AD is done. Doing the initial inspection specified in this paragraph terminates the requirements of paragraph (i) of this AD.

(1) Before the accumulation of 20,000 total flight cycles from the airplane first flight, or within 750 flight cycles after the effective date of this AD, whichever occurs later, without exceeding 24,000 total flight cycles.

(2) Within 20,000 flight cycles after the most recent repair or replacement of the 80VU rack lower central support was done, as specified in the Accomplishment Instructions of Airbus Mandatory Service Bulletin A320-25A1555, dated June 14, 2007; Revision 01, dated February 18, 2008; or Revision 02, dated November 5, 2008.

(3) Within 20,000 flight cycles after modification of the 80VU rack lower central support was done, as specified in the Accomplishment Instructions of Airbus Service Bulletin A320-25-1557, dated June 14, 2007; or Revision 01, dated February 07, 2008.

(4) For airplanes on which, as of the effective date of this AD, the 80VU rack lower central support has accumulated fewer than 30,000 total flight cycles: Within 500 flight cycles after the effective date of this AD, without exceeding 4,500 flight cycles after the most recent inspection of the 80VU rack lower central support was done, as specified in the Accomplishment Instructions of Airbus Mandatory Service Bulletin A320-25A1555, dated June 24, 2007; Revision 01, dated February 18, 2008; or Revision 02, dated November 5, 2008.

(5) For airplanes on which, as of the effective date of this AD, the 80VU rack lower central support has accumulated 30,000 total flight cycles or more: Within 500 flight cycles after the most recent inspection of the 80VU rack lower central support was done, in accordance with the Accomplishment Instructions of Airbus Mandatory Service Bulletin A320-25A1555, dated June 14, 2007; Revision 01, dated February 18, 2008; or Revision 02, dated November 5, 2008.

(6) Within 500 flight cycles after the effective date of this AD.

(o) New Requirement of This AD: Corrective Action for Damage to Lower Central Support

If any cracking is found during any inspection required by paragraph (n) of this AD: Before further flight do the actions in paragraph (o)(1) or (o)(2) of this AD.

(1) If kits 25A1555A01 thru A05 are available, contact the Manager, International Branch, ANM-116, Transport Airplane Directorate, FAA; or the European Aviation Safety Agency (EASA) (or its delegated agent); for instructions and do the repair.

(2) Do the actions specified in paragraph (k)(1) and (k)(2) of this AD.

(p) New Requirement of This AD: Repetitive Inspection of Upper Fittings and Shelves

Concurrently with each special detailed inspection required by paragraphs (l) and (n) of this AD: Do a general visual inspection for damage (cracking or deformation) of the upper fittings and shelves of the 80VU rack, in accordance with the Accomplishment Instructions of Airbus Mandatory Service Bulletin A320-25A1555, Revision 03, dated February 28, 2012. If any damage is found: Before further flight, repair the damage using a method approved by either the Manager, International Branch, ANM-116, Transport Airplane Directorate, FAA; or EASA (or its delegated agent).

(q) New Requirement of This AD: Corrective Action for Previous Findings

For airplanes that have been inspected before the effective date of this AD as specified in Airbus Service Bulletin A320-25A1555, dated June 14, 2007; Airbus Mandatory Service Bulletin A320-25A1555, Revision 01, dated February 18, 2008; or Airbus Mandatory Service Bulletin A320-25A1555, Revision 02, dated November 5, 2008; and on which damage of the fittings was found, except for airplanes specified in paragraph (q)(1) or (q)(2) of this AD: At the applicable time given in paragraph E.(2)., “Accomplishment Timescale,” of Airbus Mandatory Service Bulletin A320-25A1555, Revision 03, dated February 28, 2012, accomplish the applicable corrective actions, in accordance with the Accomplishment Instructions of Airbus Mandatory Service Bulletin A320-25A1555, Revision 03, dated February 28, 2012, except where this service information specifies to contact Airbus for further instructions, before further flight, contact either the Manager, International Branch, ANM-116, Transport Airplane Directorate, FAA; or EASA (or its delegated agent); for instructions and follow those instructions. Accomplishing the actions required by this paragraph terminates the requirements of paragraph (h) of this AD.

(1) Airplanes on which Airbus Modification 34804 has been embodied in production.

(2) Airplanes on which the terminating action specified in paragraph (k) of this AD has been done.

(r) Credit for Previous Actions

This paragraph restates the credit given in paragraph (l) of AD 2010-24-07, Amendment 39-16526 (75 FR 75878, December 7, 2010).

(1) This paragraph provides credit for actions required by paragraphs (g), (h), and (i) of this AD, if those actions were performed before January 11, 2011 (the effective date of AD 2010-24-07, Amendment 39-16526 (75 FR 75878, December 7, 2010)), using the service bulletins specified in paragraph (r)(1)(i) or (r)(1)(ii) of this AD.

(i) Airbus Mandatory Service Bulletin A320-25A1555, Revision 01, dated February 18, 2008, which is not incorporated by reference in this AD.

(ii) Airbus Service Bulletin A320-25A1555, dated June 14, 2007, which is not incorporated by reference in this AD.

(2) This paragraph provides credit for actions required by paragraphs (g) and (k)(2) of this AD, if those actions were performed before January 11, 2011 (the effective date of AD 2010-24-07, Amendment 39-16526 (75 FR 75878, December 7, 2010)), using the service bulletins specified in paragraph (r)(2)(i) or (r)(2)(ii) of this AD.

(i) Airbus Service Bulletin A320-25-1557, dated June 14, 2007, which is not incorporated by reference in this AD.

(ii) Airbus Service Bulletin A320-25-1557, Revision 01, dated February 7, 2008, which is not incorporated by reference in this AD.

(s) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD. AMOCs approved previously for AD 2010-24-07, Amendment 39-16526 (75 FR 75878, December 7, 2010), are approved as AMOCs for the corresponding provisions of this AD.

(2) Airworthy Product: For any requirement in this AD to obtain corrective actions from a manufacturer, use these actions if they are FAA-approved. Corrective actions are considered FAA-approved if they were approved by the State of Design Authority (or its delegated agent, or the Design Approval Holder with a State of Design Authority's design organization approval, as applicable). For a repair method to be approved, the repair approval must specifically refer to this AD. You are required to ensure the product is airworthy before it is returned to service.

(t) Related Information

(1) Refer to Mandatory Continuing Airworthiness Information European Aviation Safety Agency Airworthiness Directive 2012-0134, dated July 18, 2012, for related information. You may examine the MCAI in the AD docket on the Internet at http://www.regulations.gov/#!documentDetail;D=FAA-2013-0416-0002.

(2) Service information identified in this AD that is not incorporated by reference may be obtained at the addresses specified in paragraphs (u)(5) and (u)(6) of this AD.

(u) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on January 31, 2014.

(i) Airbus Mandatory Service Bulletin A320-25A1555, Revision 03, dated February 28, 2012.

(ii) Reserved.

(4) The following service information was approved for IBR on January 11, 2011 (75 FR 75878, December 7, 2010).

(i) Airbus Mandatory Service Bulletin A320-25A1555, Revision 02, excluding Appendix 1, dated November 5, 2008.

(ii) Airbus Service Bulletin A320-25-1557, Revision 02, dated November 5, 2008.

(iii) Airbus Service Bulletin A320-53-1215, dated November 5, 2008.

(5) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on December 4, 2013.
John P. Piccola,
Acting Manager, Transport Airplane Directorate, Aircraft Certification Service.

[FR Doc. 2013-30066 Filed 12-26-13; 8:45 am]

BILLING CODE 4910-13-P